DEPARTMENT OF VETERANS AFFAIRS

Disciplinary Appeals Board Panel

AGENCY: Department of Veterans Affairs.

ACTION: Notice with request for comments.

SUMMARY: This notice announces that the roster of employees on the Disciplinary Appeals Board Panel is available for review and comment. Employees, employee organizations, and other interested parties shall be provided, without charge, a list of the names of employees on the Panel upon request and may submit comments concerning the suitability for service on the Panel of any employee whose name is on the list.

DATES: Names that appear on the Panel may be selected to serve on a Board or as a grievance examiner after August 17, 2017.

ADDRESSES: Requests for the list of names of employees on the Panel and written comments may be directed to: Secretary of Veterans Affairs, Department of Veterans Affairs, 810 Vermont Avenue NW., Washington, DC 20420. Requests and comments may also be faxed to (202) 495-5200.

FOR FURTHER INFORMATION CONTACT: Larry Ables, Employee Relations & Performance Management Service, Office of Human Resources Management, Department of Veterans Affairs, 810 Vermont Avenue NW., Mailstop 051, Washington, DC 20420. Mr. Ables may be reached at (202) 461-6172.

SUPPLEMENTARY INFORMATION: Section 203 of the Department of Veterans Affairs Health Care Personnel Act of 1991 (Pub. L. 102-40), dated May 7, 1991, revised the disciplinary grievance and appeal procedures for employees appointed under 38 U.S.C. 7401(1). It also required the periodic designation of employees of the Department who are qualified to serve on Disciplinary Appeals Boards. These employees constitute the Disciplinary Appeals Board Panel from which Board members in a case are appointed. Public Law 102-40 requires that the availability of the roster be posted in the Federal Register periodically and not less than annually.

Signing Authority: The Secretary of Veterans Affairs, or designee, approved this document and authorized the undersigned to sign and submit the document to the Office of the Federal Register for publication electronically as an official document of the Department of Veterans Affairs. Gina S. Farrisee, Deputy Chief of Staff, Department of Veterans Affairs, approved this document on July 10, 2017, for publication.

Dated: July 12, 2017.
Michael Shores,
Director, Regulation Policy & Management, Office of the Secretary, Department of Veterans Affairs.

Department of Veterans Affairs
[2017 Disciplinary Appeals Board (DAB) Trainees—June 6-9, 2017]
Physician name | Category | Title | Specialty | City | State | VISN
Acevedo, William | Physician | Deputy Chief of Staff |  | San Juan | PR | 8
Anderson, Michael T | Chiropractor | Chiropractor | Chiropractor | Butler | PA | 4
Bates, Barbara E | Physician | Chief of Staff/PM&R | Physical Medicine & Rehab | Saginaw | MI | 10
Boswell, Rita S | Physician Assistant | PA/Surgical Care | Surgery—Vascular/Thoracic | Kansas City | MO | 15
Brooks, Johnnie R | Physician Assistant | PA/Orthapedic Surgery | Surgery—Orthopedic | Memphis | TN | 9
Cannon, Debra C | Physician Assistant | PA/Primary Care | Surgery—ENT/Thoracic | Dayton | OH | 10
Dhanani, Shawkat | Physician | Chief of Staff |  | White City | OR | 20
Ellington, Tracy L | Podiatrist | Podiatrist | Podiatry | Madison | WI | 12
Garcia-Bunuel, Martin L | Physician | Deputy Chief of Staff/Primary Care | Primary Care | Baltimore | MD | 5
Horn, Mary Jo | Optometrist | Chief, Optometry | Optometry | Fayetteville | AR | 16
Huss, Jason T | Podiatrist | Podiatrist | Podiatry | Seattle | WA | 20
Lynne, David N | Optometrist | Supervisor, Optometrist | Optometry | Orlando | FL | 8
Turner, Cassidy L | Dentist | Chief, Dental | Dental | Richmond | VA | 6
Vien, Lee Q | Optometrist | Optometrist | Optometry | Palo Alto | CA | 21
Worley, Mark A | Physician | Chief of Staff/Psychiatry | Psychiatry | Fayetteville | AR | 16
Zimmerman, Paul S | Dentist | Chief, Dental | Dental | Sheridan | WY | 1

Nurse name | Category | Title | Specialty | City | State | VISN
Cleveland, Cynthia D | RN | ADPCS |  | Birmingham | AL | 7
Gunn, Susan L | CRNA | CRNA |  | Louisville | KY | 9
Heck, Michael L | CRNA | CRNA |  | Lebanon | PA | 4
Jones, Kendra L | RN | RN | Surgical ICU | Baltimore | MD | 5
Neff, Tammy A | RN | Acting ADPCS |  | Iowa City | IA | 23
Ortiz, Celina R | CRNA | CRNA |  | Dallas | TX | 17
Otterness, Sara A | RN | APRN | Nephrology/Dialysis | Minneapolis | MN | 23

[FR Doc. 2017-14980 Filed 7-17-17; 8:45 am]

BILLING CODE 8320-01-P